DEPARTMENT OF DEFENSE

Office of the Secretary

32 CFR Part 68

[Docket No. DOD-2013-OS-0093]

RIN 0790-AJ06

Voluntary Education Programs

AGENCY: Office of the Under Secretary of Defense for Personnel and Readiness, DoD.

ACTION: Proposed rule.

SUMMARY: In this proposed rule, the Department of Defense (DoD) discusses new policy, responsibilities, and procedures for the operation of voluntary education programs within DoD. The new policies discussed in the rule include the following.

All educational institutions providing education programs through the DoD Tuition Assistance (TA) Program will provide meaningful information to students about the financial cost and attendance at an institution so military students can make informed decisions on where to attend school; not use unfair, deceptive, and abusive recruiting practices; and provide academic and student support services to Service members and their families. New criteria are created to strengthen existing procedures for access to military installations by educational institutions. An annual review and notification process is required if there are changes made to the uniform semester-hour (or equivalent) TA caps and annual TA ceilings. Military Departments will be required to provide their Service members with a joint services transcript (JST). The DoD Postsecondary Education Complaint System is implemented for Service members, spouses, and adult family members to register student complaints. The Military Departments are authorized to establish Service-specific TA eligibility criteria and management controls.

DATES: Comments must be received by September 30, 2013.

FOR FURTHER INFORMATION CONTACT: For general information concerning DoD Voluntary Education Programs, send a written inquiry to Ms. Carolyn Baker, at the Office of the Under Secretary of Defense (Personnel & Readiness), Military Community & Family Policy, State Liaison and Educational Opportunities, 4800 Mark Center Drive, Suite 14E08, Alexandria, Virginia 22350-2300 (Phone: 571-372-5355 or email: carolyn.baker@osd.mil).

SUPPLEMENTARY INFORMATION:

Executive Summary

This proposed rule implements Voluntary Education Programs for Military Service members. This rule includes educational programs that enable Service members to earn a degree on their off-duty time. Congress has held that men and women serving in the Armed Forces should have at least the same opportunity to advance academically as do civilians who remain outside the military.

Funding for Voluntary Education Programs is authorized by law and is subject to the availability of funds from each Service. Voluntary education programs include tuition assistance (TA) (per 10 U.S.C. 2007), which is administered uniformly across the Services. Subject to appropriations, each Service pays no more than $250.00 per semester-unit (or equivalent) for tuition. Each Service member participating in off-duty, voluntary education is eligible for up to $4,500.00, in aggregate, for each fiscal year. TA can only be used for courses offered by postsecondary institutions accredited by a national or regional accrediting body recognized by the U.S. Department of Education.

A March 2011 Government Accountability Office report on the DoD TA program recommended the Department take steps to enhance its oversight of schools receiving TA funds (available at http://www.gao.gov/new.items/d11300.pdf). As a result, a DoD Memorandum of Understanding (MOU) requirement was included in this rule, which is designated not only to improve Departmental oversight but also to account for our Service members' unique lifestyle requirements. The purpose of the DoD MOU is to establish a partnership between the Department and institutions to improve educational opportunities while protecting the integrity of each institution's core educational values. This partnership serves to ensure a quality, viable program exists that provides for our Service members to realize their educational goals, while allowing for judicious oversight of taxpayer dollars.

Background

The purpose of voluntary education programs is to provide active duty Service members with opportunities to enhance their academic achievement which in turn improves job performance and promotion potential. A final rule for DoD's Voluntary Education Programs was published in the Federal Register on December 6, 2012 (77 FR 72941-72956). The rule established the new requirement for a standardized memorandum of understanding (MOU) between DoD and the Institutions of Higher Learning (IHLs) prior to participating in DoD Voluntary Education Programs, such as the military tuition assistance program. As of June 25, 2013, 3,155 IHLs with a total of 4,180 sub-campuses have signed the DoD MOU.

This new proposed rule includes requirements stated in the President's Executive Order 13607, “Establishing Principles of Excellence for Educational Institutions Servicing Service Members, Veterans, Spouses, and Other Family Members”, signed April 27, 2012 (available at http://www.gpo.gov/fdsys/pkg/FR-2012-05-02/pdf/2012-10715.pdf). In implementing the EO, three interagency working groups were established (information, compliance, and report), along with an aggressive timeline to ensure that the policies take effect as soon as possible. The E.O. directed DoD to coordinate with the Departments of Veterans Affairs and Education, and in consultation with the Department of Justice and the Consumer Financial Protection Bureau, to implement and promote compliance with the principles stated in the E.O. Several of these principles were covered in the previous 2012 final rule; the remaining principles are now included in this proposed rule. The President requested the principles be implemented for school year 2013-2014.

New requirements covered in the proposed rule include:

(1) Require all educational institutions providing education programs through the DoD Tuition Assistance (TA) Program:

(a) Will provide meaningful information to students about the financial cost and attendance at an institution so military students can make informed decisions on where to attend school.

(b) Will not use unfair, deceptive, and abusive recruiting practices.

(c) Will provide academic and student support services to Service members and their families.

(2) Implement rules to strengthen existing procedures for access to military installations by educational institutions.

(3) Require DoD to conduct an annual review and notification process is required if there are changes made to the uniform semester-hour (or equivalent) TA caps and annual TA ceilings.

(4) Require the Military Departments to provide their Service members with a joint services transcript (JST).

(5) Implement the DoD Postsecondary Education Complaint System for Service members, spouses, and adult family members to register student complaints.

(6) Authorize the Military Departments to establish Service-specific TA eligibility criteria and management controls.

Regulatory Procedures

Executive Order 12866, “Regulatory Planning and Review” and Executive Order 13563, “Improving Regulation and Regulatory Review”

It has been certified that 32 CFR part 68 is an economically significant regulatory action. The rule has an annual effect on the economy of $100 million or more.

The rule does not:

(1) Adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in these Executive Orders.

Funding for Voluntary Education Programs is authorized by law and is subject to the availability of funds from each Service. Voluntary education programs include tuition assistance (per section 2007 of title 10, United States Code), which is administered uniformly across the Services. Each Service pays no more than $250.00 per semester-unit (or equivalent) for tuition. Each Service member participating in off-duty, voluntary education is authorized up to $4,500.00, in aggregate, for each fiscal year. As per the National Defense Authorization Act (NDAA) FY08, each of the Services may also provide TA to activated Service members of the Selected Reserves and Individual Ready Reserve. Tuition assistance costs for Service members participating in high school completion and accredited undergraduate or graduate education programs totaled approximately $562 million in FY11 and approximately $568 million in FY12. During FY11, 325,324 Service members received TA for 866,788 courses. During FY12, 286,665 Service members received TA for 874,094 courses. A total of 45,220 degrees/diplomas/certificates were earned in FY11 and 50,497 in FY12. Operational costs totaled approximately $102 million in FY11 and $92 million in FY12. Operational costs for DoD Voluntary Education Programs include such items as salaries, TDY, training, supplies, and equipment.

Funding for the new E.O. 13607 requirement to establish a DoD complaint system for students receiving Federal military educational benefits, such as military tuition assistance, included approximately $13,500 for the estimated labor cost to DoD and approximately $400,000 to build the system.

Congressional Review Act, 5 U.S.C. 801

We estimate that this rulemaking is “economically significant” as measured by the $100 million threshold and, hence, also a major rule under the Congressional Review Act. Accordingly, we have prepared a regulatory impact analysis that, to the best of our ability, presents the costs and benefits of the rulemaking.

Section 202, Public Law 104-4, “Unfunded Mandates Reform Act”

It has been certified that 32 CFR part 68 does not contain a Federal mandate that may result in expenditure by State, local and tribal governments, in aggregate, or by the private sector, of $100 million or more in any one year.

Public Law 96-354, “Regulatory Flexibility Act” (5 U.S.C. 601)

It has been certified that 32 CFR part 68 is not subject to the Regulatory Flexibility Act (5 U.S.C. 601) because it would not, if promulgated, have a significant economic impact on a substantial number of small entities. The rule updates policy and procedures for the voluntary education programs within DoD for Service members and their adult eligible family members. Guidance on voluntary education programs is available through the Education Centers located on military installations.

Public Law 96-511, “Paperwork Reduction Act”

It has been certified that 32 CFR part 68 does impose reporting or recordkeeping requirements under the Paperwork Reduction Act of 1995. The requirements for the new student complaint system were submitted to the Office of Management and Budget and approved under OMB Control Number 0704-0501, “Postsecondary Education Complaint Intake System.” While DoD believes that the collection instrument and burden numbers will not change, DoD welcomes additional comments on this collection of information.

Section 68.1(c)(5) of this proposed rule contains information collection requirements. Comments are invited on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

Title: Postsecondary Education Complaint Intake System.

Type of Request: New.

Number of Respondents: 100.

Responses per Respondent: 1.

Annual Responses: 100.

Average Burden per Response: 10 minutes.

Annual Burden Hours: 17 hours.

Needs and Uses: The information collection requirement is necessary to obtain, document, and respond to complaints, questions, and other information concerning postsecondary education and services provided to military students, veterans, and their adult family members. The President's Executive Order 13607, signed on April 27, 2012, calls for the creation of a robust, centralized complaint process for students receiving Federal military and veterans' educational benefits. The web based intake documents information electronically such as the level of study of the student, school the student is attending, type of education benefits being used, branch of the military service, substance of the complaint or issue, and preferred contact information for the person making the complaint.

Affected Public: Individuals and households.

Frequency: On occasion.

Respondent's Obligation: Voluntary.

OMB Desk Officer: Written comments and recommendations on the proposed information collection should be sent to Ms. Jasmeet Seehra at the Office of Management and Budget, DoD Desk Officer, Room 10102, New Executive Office Building, Washington, DC 20503, with a copy to Ms. Carolyn Baker, at the Office of the Under Secretary of Defense (Personnel & Readiness), Military Community & Family Policy, State Liaison and Educational Opportunities, 4800 Mark Center Drive, Suite 14E08, Alexandria, Virginia 22350-2300. Comments to OMB will be most useful if received by OMB within 30 days after the date of this notice.

You may also submit comments, identified by docket number and title, by the following method:

* Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

To request more information on this proposed information collection or to obtain a copy of the proposal and associated collection instruments, please write to Ms. Carolyn Baker, at the Office of the Under Secretary of Defense (Personnel & Readiness), Military Community & Family Policy, State Liaison and Educational Opportunities, 4800 Mark Center Drive, Suite 14E08, Alexandria, Virginia 22350-2300, or call Ms. Baker at 571-372-5355.

Executive Order 13132, “Federalism”

It has been certified that 32 CFR part 68 does not have federalism implications, as set forth in Executive Order 13132. This rule does not have substantial direct effects on:

(1) The States;

(2) The relationship between the National Government and the States; or

(3) The distribution of power and responsibilities among the various levels of Government.

List of Subjects in 32 CFR Part 68

Adult education, Armed forces, Colleges and universities, Education, Educational study programs, Government contracts, Military personnel, Student aid.

Accordingly, 32 CFR part 68 is proposed to be revised to read as follows:

PART 68—VOLUNTARY EDUCATION PROGRAMS

Sec.
68.1 Purpose.
68.2 Applicability.
68.3 Definitions.
68.4 Policy.
68.5 Responsibilities.
68.6 Procedures.

Appendix A to Part 68—DoD Voluntary Education Partnership Memorandum of Understanding (MOU) Between DoD Office of the Under Secretary of Defense for Personnel and Readiness (USD(P&R)) and [Name of Educational Institution]

Appendix B to Part 68—Addendum for Education Services Between [Name of Educational Institution] and the U.S. Air Force (USAF)

Appendix C to Part 68—Addendum for Education Services Between [Name of Educational Institution] AND THE U.S. Army

Appendix D to Part 68—Addendum for Education Services Between [Name of Educational Institution] and the U.S. Marine Corps

Appendix E to Part 68—Addendum for Education Services Between [Name of Educational Institution] and the U.S. Navy

Authority: 10 U.S.C. 2005, 2007.

§ 68.1 Purpose.

This part:

(a) Implements policy, assigns responsibilities, and prescribes procedures for the operation of voluntary education programs in the DoD.

(b) Establishes policy stating the eligibility criteria for tuition assistance (TA) and the requirement for a memorandum of understanding (MOU) from all educational institutions providing educational programs through the DoD TA Program.

(c) Establishes new policy that:

(1) All educational institutions providing education programs through the DoD Tuition Assistance (TA) Program:

(i) Will provide meaningful information to students about the financial cost and attendance at an institution so military students can make informed decisions on where to attend school.

(ii) Will not use unfair, deceptive, and abusive recruiting practices.

(iii) Will provide academic and student support services to Service members and their families.

(2) Creates rules to strengthen existing procedures for access to military installations by educational institutions.

(3) Requires an annual review and notification process of uniform semester-hour (or equivalent) TA caps and annual TA ceilings.

(4) Requires the Military Departments to provide their Service members with a joint services transcript (JST).

(5) Implements the DoD Postsecondary Education Complaint System for Service members, spouses, and adult family members to register student complaints.

(6) Authorizes the Military Departments to establish Service-specific TA eligibility criteria and management controls.

(d) Establishes the Interservice Voluntary Education Board.

§ 68.2 Applicability.

This part applies to the Office of the Secretary of Defense, the Military Departments, the Office of the Chairman of the Joint Chiefs of Staff and the Joint Staff, the Combatant Commands, the Office of the Inspector General of the DoD, the Defense Agencies, the DoD Field Activities, and all other organizational entities within the DoD (referred to collectively in this part as the “DoD Components”).

§ 68.3 Definitions.

The following terms and their definitions are for the purpose of this part:

Academic. Relating to education, educational studies, an educational institution, or the educational system.

Academic institution. A college, university, or other postsecondary educational institution of higher education.

Academic institution representative. An employee of the academic institution.

Academic skills. Competencies in English, reading, writing, speaking, mathematics, and computer skills that are essential to successful job performance and new learning. Also referred to as functional or basic skills.

Active Guard and Reserve (AGR). National Guard or Reserve members of the Selected Reserve (SELRES) who are ordered to active duty or full-time National Guard duty for a period of 180 consecutive days or more for the purpose of organizing, administering, recruiting, instructing, or training the Reserve Component units or duties as prescribed in 10 U.S.C. 12310. All AGR members must be assigned against an authorized mobilization position in the unit they support. (Includes Navy full-time support (FTS), Marine Corps Active Reserve (ARs), and Coast Guard Reserve Personnel Administrators (RPAs)).

American Council on Education. The major coordinating body for all of the Nation's higher education institutions. Seeks to provide leadership and a unifying voice on key higher education issues and publishes the “Guide to the Evaluation of Educational Experiences in the Armed Services.”

Annual TA Ceiling. The maximum dollar amount authorized for each Service member for TA per fiscal year. Each Service member participating in off-duty voluntary education programs will be entitled to the full amount authorized each fiscal year in accordance with DoD policy.

Army/American Council on Education Registry Transcript System. An automated official document generated by the Army/ACE Registry Transcript System which can be sent directly from the Army American Council on Education Registry Transcript System Center to the educational institution to articulate a soldier's military experience and training and the American Council on Education-recommended college credit for this training and experience. The Army/ACE Registry Transcript System is incorporated in the joint services transcript.

Degree requirements. A planning document provided by the educational institution that outlines general required courses to complete an educational program. The planning document presents the general education and major-related course requirements, degree competencies (e.g., foreign language, computer literacy), and elective course options that students may choose for specified program of study.

Education advisor. A professionally qualified, subject matter expert or program manager in the Education Services Series 1740 at the installation education center. The following position titles may also be used for an education advisor: Education Services Specialist, Education Services Officer (ESO), Voluntary Education Director, Navy College Office Director, and Education and Training Section (ETS) Chief.

Education center. A military installation facility, including office space, classrooms, laboratories, and other features, that is staffed with professionally qualified personnel and to conduct voluntary education programs. For Navy, this is termed the “Navy College Office.”

Educational plan. A planning document provided by the educational institution that outlines general degree requirements for graduation. Typically an educational plan presents the general education and major-related course requirements, degree competencies (e.g., foreign language, computer literacy), and elective course options that students may choose for a specified program of study. This document is required from the institution prior to the enrollment of the Service member at the institution.

Eligible adult family member. The adult family member, over the age of 18, of an active duty, Reserve, National Guardsman, or DoD civilian with a valid DoD identification card.

Evaluated educational plan. An official academic document provided by the educational institution that:

(1) Articulates all degree requirements required for degree completion or in the case of a non-degree program, all educational requirements for completion of the program;

(2) Identifies all courses required for graduation in the individual's intended academic discipline and level of postsecondary study; and

(3) Includes an evaluation of all successfully completed prior coursework, and evaluated credit for military training and experience, and other credit sources applied to the institutional degree requirements. At a minimum, the evaluated education plan will identify required courses, College Level Examination Program, and DSST (formally known as the DANTES Subject Standardized Tests) Program, and potential American Council on Education recommended college credits for training and experiences, which are applicable to courses study leading to a degree. Education advisors will assist Service members in developing their education plan for final approval by the educational institution. For participating SOC Degree Network System institutions, SOC Army Degrees, SOC Navy Degrees, SOC Marine Corps Degrees, or SOC Coast Guard Degrees Student Agreement serves as this documented educational plan.

Individual Ready Reserve (IRR). A manpower pool consisting principally of individuals who have had training, have previously served in the Active Component or in the SELRES, and have some period of their military service obligation or other contractual obligation remaining. Some individuals volunteer to remain in the IRR beyond their military service or contractual obligation and participate in programs providing a variety of professional assignments and opportunities for earning retirement points and military benefits.

Joint services transcript. An official education transcript tool for documenting the recommended ACE college credits for a variety of professional military education, training courses, and occupational experience of Service members across the Services. The joint services transcript incorporates data from documents such as the Army/ACE Registry Transcript System, the Sailor/Marine ACE Registry Transcript System, the Community College of the Air Force transcript, and the Coast Guard Institute transcript.

Needs assessment. A process used to determine the staffing requirements, course offerings, size of facilities, funding, or other standards for delivery of educational programs.

Off-duty. Time when the Service member is not scheduled to perform official duties.

Ready Reserve. Composed of military members of the Reserve and National Guard, organized in units or as individuals, or both, and liable for involuntary order to active duty in time of war or national emergency pursuant to 10 U.S.C. 12310 and 12301 and 14 U.S.C. 712 in the case of members of the Coast Guard Reserve. The Ready Reserve consists of the SELRES, the IRR, and the Inactive National Guard.

Sailor/Marine American Council on Education Registry Transcript System. An automated official document generated by the Sailor/Marine American Council on Education Registry Transcript System, which can be sent directly from the Sailor/Marine ACE Registry Transcript System Operations Center to the educational institution to articulate a Sailor's or Marine's military experience and training and the American Council on Education recommended college credit for this training and experience. The Sailor/Marine ACE Registry Transcript System is incorporated in the joint services transcript.

Semester-hour TA cap. The maximum dollar amount authorized for TA per semester-hour (or equivalent) credit. A Service will pay no more than the established DoD cap per semester-unit (or equivalent) for tuition.

SOC or Servicemembers Opportunity Colleges. A consortium of over 1,800 colleges and universities, created in 1972 that seeks to enhance the educational opportunities to Service members who may have difficulty in completing college programs due to frequent military moves.

TA or tuition assistance. Funds provided by the Military Services or U.S. Coast Guard to pay a percentage of the charges of an educational institution for the tuition of an active duty, Reserve or National Guard member of the Military Services, or Coast Guard member, enrolled in approved courses of study during off-duty time.

Third Party Education Assessment. A third-party evaluation of voluntary education programs covered by the DoD Voluntary Education Partnership MOU.

Top-Up. An option, under chapter 30 of the Montgomery G.I. Bill and Post-9/11 G.I. Bill, that enables active duty Service members to receive from the VA those tuition costs that exceed or are not authorized in the amount of TA provided to the Service member by his or her Service. The G.I. Bill entitlement is charged differently depending on which G.I. Bill program a Service member uses. The Montgomery G.I. Bill entitlement is charged based on the dollar amount of benefits VA pays to the individual. The Service member will be charged one month of entitlement for each payment received that is equal to the full-time monthly rate for the G.I. Bill. The Post-9/11 entitlement is charged based on the enrolled amount of time. If a Service member is attending classes part-time or at the ½ time level, the charge is ½ month of Post-9/11 G.I. Bill benefits for each month enrolled and receiving G.I. benefits.

Troops-to-Teachers program (TTT). A Department of Education program administered by the DoD to help recruit quality teachers for schools that serve low-income families throughout America. TTT helps relieve teacher shortages, especially in math, science, special education, and other high-needs subject areas, and assists military personnel in making successful transitions to second careers in teaching.

Voluntary education programs. Continuing, adult, or postsecondary education programs of study that Service members elect to participate in during their off-duty time, and that are available to other members of the military community.

§ 68.4 Policy.

It is DoD policy, consistent with DoD Directive 1322.08E, “Voluntary Education Programs for Military Personnel” (available at http://www.dtic.mil/whs/directives/corres/pdf/132208p.pdf), that:

(a) Members of the Military Services serving on active duty and members of the Selected Reserve (SELRES) will be afforded the opportunity to complete their high school education through a state-funded or Service component sponsored program; earn an equivalency diploma, improve their academic skills or level of literacy, enroll in career and technical education schools, receive college credit for military training and experience in accordance with the American Council on Education (ACE) Guide to the Evaluation of Educational Experiences in the Armed Services (available at http://www.acenet.edu/news-room/Pages/Military-Guide-Online.aspx), take tests to earn college credit, and enroll in postsecondary education programs that lead to industry-recognized credentials, and undergraduate and graduate degrees.

(b) On an annual basis, the Under Secretary of Defense for Personnel and Readiness (USD(P&R)), in coordination with the Military Departments no later than the end of second quarter of the current fiscal year, will review the uniform semester-hour (or equivalent) TA caps and annual TA ceilings to determine possible changes for the upcoming year. If there are any changes in the uniform semester-hour (or equivalent) caps and annual TA ceilings, a memorandum will be released from the USD(P&R), in coordination with the Military Departments, and a corresponding notice will be published in the Federal Register. Service members' costs to participate in the DoD Voluntary Education Program as authorized by 10 U.S.C. 2007, will be reduced through financial support, including TA that is administered uniformly across the Military Services.

(c) Information and professional adult academic education counseling about voluntary education programs will be readily available and easy to access so that Service members can make informed decisions concerning educational opportunities available. Education counseling will be provided by qualified professional (Education Services Series 1740 or individual with equivalent qualifications) individuals in sufficient numbers to operate voluntary education programs as determined by individual Service standards.

(d) In accordance with Executive Order (E.O.) 13607,

(1) Educational institutions receiving funding from Federal military educational benefits programs, such as the DoD TA Program, will:

(i) Provide meaningful information to students on the financial cost and attendance at an educational institution so military students can make informed decisions on where to attend school.

(ii) Prevent unfair, deceptive, and abusive recruiting practices that target Service members.

(iii) Provide academic and student support services specific to the institutions' programs to all Service members, spouses and adult family members.

(2) DoD will implement a complaint system for Service members, spouses, and adult family members that will register, track, and respond to student complaints on-line. Educational institutions that have an MOU with DoD with reoccurring complaints or an unwillingness to resolve complaints will be removed from the DoD MOU Participating Institutions list and will not be authorized to participate in the DoD TA Program.

(e) Institutions accredited by a national or regional accrediting agency recognized by the U.S. Department of Education (ED) will be encouraged to provide degree programs on military installations and the Military Services will facilitate their operations on the installations referred to in paragraph (c) of § 68.6.

(f) To the extent that space is otherwise available, eligible adult family members of Service members, DoD civilian employees and their eligible adult family members, and military retirees may enroll in postsecondary education programs offered on a military installation at no cost to the individual Service TA programs.

§ 68.5 Responsibilities.

(a) The USD(P&R):

(1) Monitors implementation of and ensures compliance with this part and DoD Directive 1322.08E.

(2) Establishes rates of tuition assistance (TA) and ensures uniformity across the Military Services as required by DoD Directive 1322.08E and this part. The uniform semester-hour (or equivalent) TA caps and annual TA ceilings will be reviewed annually and if changed, a memorandum from the USD(P&R) will be released following coordination with each of the Military Departments. Additionally, if the uniform TA rates are changed, a notice will be published in the Federal Register at approximately the start of the fiscal year.

(3) Establishes, under the provisions of DoD Instruction 5105.18, “DoD Intergovernmental and Intragovernmental Committee Management Program” (available at http://www.dtic.mil/whs/directives/corres/pdf/510518p.pdf), the Interservice Voluntary Education Board, which will be composed of full-time or permanent part-time federal employees.

(4) Maintains a program to assess the effectiveness of the voluntary education programs.

(5) Issues written supplemental guidance annually for the funding and operation of the Defense Activity for Non-Traditional Education Support (DANTES) for those items not reflected in paragraph (f) of § 68.6.

(b) The Assistant Secretary of Defense for Readiness and Force Management (ASD(R&FM)), under the authority, direction, and control of the USD(P&R) will:

(1) Provide administrative assistance to the Deputy Assistant Secretary of Defense for Military Community and Family Policy (DASD(MCFP)), in support of the voluntary education programs.

(2) Respond to matters that are referred by the DASD(MCFP).

(c) The DASD(MCFP), under the authority, direction, and control of the ASD(R&FM), will:

(1) Monitor compliance with this part and DoD Directive 1322.08E and related issuances by personnel under his or her authority, direction, and control.

(2) Oversee the DoD Voluntary Education Program.

(3) Provide ongoing and routine clarifying guidance for the DoD Voluntary Education Program.

(4) Provide representatives to professional education and cross-agency panels addressing issues impacting the DoD Voluntary Education Program, its regulatory scope, clientele, and partners.

(5) Designate the Voluntary Education Chief within the Office of the DASD(MCFP) as the Chair of the Interservice Voluntary Education Board and oversee implementation of Board and DANTES procedures as detailed in § 68.6 of this part.

(6) Oversee the DoD Postsecondary Education Complaint System through which Service members, spouses, and adult family members receiving Federal military and veterans educational benefits can register on-line complaints that will be tracked and responded to by the Departments of Defense, Veterans Affairs, Justice, and Education, the Consumer Finance Protection Bureau, and other relevant agencies. The DoD Postsecondary Education Complaint System is Web-based and accessible on-line at https://afaems.langley.af.mil/vemis/DoD.Postsecondary.ED.Complaint.System. This complaint system contains the uniform procedures for the processing of the complaint intake form (DD Form 2961, DoD Postsecondary Education Complaint Intake).

(7) Oversee the Third-Party Education Assessment, which is a third party review process to assess the quality, delivery, and coordination of the voluntary education programs provided to military personnel on the installation, in the community, and via distance learning (DL). It assists in improving the quality of the delivery of these programs through recommendation to institutions, installations, and the Military Services.

(i) DASD(MCFP) will monitor actions by the Military Services to resolve recommendations for improvement identified on the respective Military Service's installation during the Third Party Education Assessment.

(ii) DASD(MCFP) will monitor actions provided to the DoD Voluntary Education Chief by institutions operating off the military installation or via DL to resolve recommendations for improvement identified during Third Party Education Assessments. These institutions will provide corrective actions taken within 6 months of the assessment to the DoD Voluntary Education Chief. In instances when the issue cannot be resolved within the 6 month timeframe, the institution will submit a status report every 3 months to the DoD Voluntary Education Chief until the recommendation is resolved.

(8) Prepare written supplemental guidance annually for USD(P&R) regarding the funding and operation of DANTES for those items not reflected in paragraph (f) of § 68.6.

(9) Oversee the policy of the joint services transcript (JST).

(d) The Assistant Secretary of Defense for Reserve Affairs (ASD(RA)), under the authority, direction, and control of the USD(P&R), will:

(1) Monitor compliance with this part and DoD Directive 1322.08E and related issuances by personnel under his or her authority, direction, and control.

(2) Appoint a representative to serve on the Interservice Voluntary Education Board.

(3) Arrange the assignment of, on a rotating basis, a field grade officer, to serve as the Reserve Component Advisor to the Voluntary Education Chief and a representative on the Interservice Voluntary Education Board.

(e) The Secretaries of the Military Departments will:

(1) Monitor compliance with this part and DoD Directive 1322.08E and related issuances by personnel under their respective authority, direction, and control.

(2) Establish, maintain, coordinate, and operate voluntary education programs that encompass a broad range of educational experiences including, but not limited to, academic skills development, high school completion programs, vocational programs, career and technical programs, and programs leading to the award of undergraduate and graduate degrees.

(3) Require that sufficient funding is available to provide Service members with TA support consistent with the requirements in § 68.6 and appendices A, B, C, D, and E to this part.

(4) Require that educational counseling is available to Service members so they will have sufficient information and guidance to plan an appropriate program of study. Educational counseling will be provided by qualified professional (Education Services Series 1740 or individual with equivalent qualifications) individuals.

(5) Require that voluntary education programs participate in the DoD established third-party review process entitled the Third Party Education Assessment.

(i) Within 6 months following the Third Party Education Assessment on their installation, the responsible Military Service will resolve recommendations received as a result of the assessment and provide the resolutions to the DoD Voluntary Education Chief. In instances when the issue cannot be resolved within the 6 month timeframe, the Military Service will submit a status report every 3 months to the DoD Voluntary Education Chief until the recommendation is resolved.

(ii) If the recommendation(s) requires involvement of an institution operating on their respective installation, the Military Service will coordinate the submission of corrective actions taken by institution(s) through the appropriate Education Advisor, and forward through their respective Military Service leadership to the DoD Voluntary Education Chief.

(iii) Waivers to the Third Party Education Assessment must be submitted to and approved by the DoD Voluntary Education Chief.

(6) Provide one representative to serve on the Interservice Voluntary Education Board responsible for their Services' voluntary education policy from each of the following Military Services: Army, Navy, Air Force, and Marine Corps. Each Service representative's membership will be on a permanent basis and changed only when their voluntary education policy position is changed.

(7) Assign, on a rotating basis, a senior enlisted Service member in the military pay grade E-9 to serve as the DANTES enlisted advisor.

(8) Assign, on a rotating basis, a field-grade officer to serve as the DANTES RC advisor.

(9) Require that military test control officers and test centers comply with the guidance and procedures published in the DANTES Examination Program Handbook, available at http://www.dantes.doded.mil/Programs/Docs/DEPH_part1.pdf.

(10) Require that personnel who provide counseling, advice, and program management related to voluntary education programs have access to the DoD Voluntary Education homepage and other Web sites so they can provide current and accurate information to Service members.

(11) Provide opportunities for Service members to access the Internet, where available, to enroll in and complete postsecondary courses that are part of their approved educational plan leading to an educational goal.

(12) Submit requested quarterly and annual information for the Voluntary Education Management Information System (VEMIS) by the 20th day of the month after the end of each fiscal quarter for the quarterly reports and November 15th each year for the annual report. Reporting information includes, but is not limited to voluntary education program data on enrollments, participation, and costs.

(13) Respond to and resolve Service-specific student complaints received and managed through the DoD Postsecondary Education Complaint System.

(14) Provide Service members with a JST. At a minimum, the JST will include documented military student data, courses, and military occupations evaluated by ACE, including descriptions, learning outcomes and equivalent college credit recommendations, as well as national college-level exam results. The Air Force will continue to use the Community College of the Air Force (CCAF) to document airmen's academic and military credit.

(f) Secretary of the Navy. The Secretary of the Navy, as the DoD Executive Agent (DoD EA) for DANTES pursuant to DoD Directive 1322.08E and DoD Directive 5101.1, “DoD Executive Agent” (available at http://www.dtic.mil/whs/directives/corres/pdf/510101p.pdf), and in addition to the responsibilities in this section, will:

(1) Transmit supplemental annual guidance issued by the USD(P&R) to DANTES for those items not reflected in paragraph (f) of this section.

(2) Require that the Director, DANTES, provide updates on DANTES plans, operations, and activities to the USD(P&R).

(3) Through its civilian personnel system, advertise the position of Director, DANTES, when the position is vacated and appoint the Director, DANTES, in accordance with the procedures outlined in § 68.6.

§ 68.6 Procedures.

(a) TA for Service members participating in education programs.

(1) TA will be available for Service members participating in high school completion and approved courses from accredited undergraduate or graduate education programs or institutions. Approved courses are those that are part of an identified course of study leading to a postsecondary certificate or degree and non-degree oriented language courses integral to the Defense Language Transformation Roadmap (available at http://www.defense.gov/news/Mar2005/d20050330roadmap.pdf).

(i) Use of TA for non-degree oriented language courses is limited to those published by the Under Secretary of Defense (P&R) on the DoD Strategic Language List.

(ii) Dominant-in-the-force languages and languages deemed by DoD as already having sufficient strategic capacity will not be funded under 10 U.S.C. 2007, except for assignments outside the continental United States.

(2) TA will be applied as follows:

(i) For 100 percent of the cost of approved high school completion programs for Service members who have not been awarded a high school or equivalency diploma and who are enrolled in such programs.

(ii) In support of the voluntary education of active duty Service members during their off-duty periods, each Military Service will pay all or a portion, as specified in paragraphs (a)(2)(ii)(A) through (F) of this section, of the charges of an educational institution for education and training during the member's off-duty periods. TA funding will only be paid to educational institutions accredited by an accrediting organization recognized by ED, approved for Department of Veterans Affairs (VA) funding, and participating in Federal student aid programs through the Department of Education under Title IV of the Higher Education Act of 1965. Whenever ED withdraws the recognition of any accrediting agency, an institution of higher education which meets the requirements of accreditation, eligibility, and certification on the day prior to such withdrawal, may, notwithstanding the withdrawal, continue to participate in the TA program for a period not to exceed 18 months from the date of the withdrawal of recognition.

(A) When an institution's charges are equal to or less than the established cap per semester-hour of credit or its equivalent, the responsible Service will pay the entire amount charged by the institution. In computing credit equivalency, the following conversions will apply: 1 quarter-hour credit = ⅔ semester-hour credit; and 45 contact hours will be considered equivalent to one semester-hour credit when neither semester- nor quarter-hours are specified for the education or training for which the Service member is enrolled.

(B) When an institution's charges exceed the established cap per semester-hour of credit, or its equivalent, the responsible Service, will pay no more than the established cap per semester-unit (or equivalent) for tuition.

(C) Each Service member participating in off-duty, voluntary education will be allowed up to the established ceiling, in aggregate, for each fiscal year.

(D) Covered charges include those that are submitted to the Service by the educational institution for tuition only.

(E) TA funds are not to be used for the purchase of books and fees. Additionally, institutional education revenue generated from military TA funds cannot be used to support textbook grants or scholarships.

(F) To be eligible to receive TA, a Service member must meet the minimum requirement of successfully completing basic training. Reserve Component members are exempt from the requirement to first attend basic training before authorized to receive TA. Additional, respective Service requirements must be met to include training qualification, unit assignment, and time in service criteria.

(iii) The TA rate, credit-cap, and annual per capita ceiling, will be reviewed annually in consideration of inflation and other effects, and will be applicable uniformly whether instruction is delivered traditionally in-the-classroom or through distance education. Rates of TA other than as identified in paragraphs (a)(2)(ii)(A) through (F) of this section are not authorized.

(3) Service-specific TA Eligibility Requirements.

(i) Service-specific eligibility criteria and management controls are determined by each Military Service.

(ii) Service-specific TA eligibility criteria and management controls may include, but are not limited to, applying TA:

(A) For courses leading to a certificate or required for a credentialing program. All payments for courses must comply with the allowable caps and ceilings.

(B) For graduate studies through the master's degree level. All payments for courses must comply with the allowable caps and ceilings.

(C) For same level degrees, subject to availability of funds. However, TA is primarily intended to raise the academic degree level of the Service member.

(4) TA is available to a commissioned officer on active duty, other than an officer serving in the Ready Reserves (addressed in paragraphs (a)(5)(i) and (a)(6)(i) of this section), only if the officer agrees to remain on active duty, for a period of at least two years after the completion of the education or training for which TA was paid (see 10 U.S.C. 2007).

(5) The Secretary of the Military Department concerned may only make TA available to a member of the SELRES, pursuant to 10 U.S.C. 2007, under the following conditions:

(i) In the case of a commissioned officer, the officer must agree to remain a member of the SELRES for at least four years after completion of the education or training for which TA is paid.

(ii) In the case of an enlisted member, the Secretary concerned may require the member of the SELRES to enter into an agreement to remain a member of the SELRES for up to four years after completion of the education or training for which TA is paid.

(6) The Secretary of the Military Department concerned may only make TA available to a member of the IRR who has a military occupational specialty designated by the Secretary concerned pursuant to 10 U.S.C. 2007 and only under the following conditions:

(i) In the case of a commissioned officer, the officer must agree to remain a member of the SELRES or IRR for at least four years after completion of the education or training for which TA was paid.

(ii) In the case of an enlisted member, the Secretary concerned may require the member of the IRR to enter into an agreement to remain a member of the IRR for up to four years after completion of the education or training for which TA is paid.

(7) Members performing Active Guard and Reserve (AGR) duty under either 10 U.S.C. 12310 or active duty under 14 U.S.C. 712 are eligible for TA under paragraph (a)(4) of this section.

(8) The Secretary of the Military Department concerned may make TA available to National Guard members in accordance with paragraph (a)(4), except for National Guard members assigned to the Inactive National Guard.

(9) Reimbursement and repayment requirements:

(i) If a commissioned officer or member of the RR does not fulfill a specified Service obligation as required by 10 U.S.C. 2007, they are subject to the repayment provisions of 37 U.S.C. 303a(e).

(ii) For other conditions pursuant to 10 U.S.C. 2005, the Secretary concerned may require a Service member to enter into a written agreement when providing advanced education assistance. If the Service member does not fulfill any terms or conditions as prescribed by the Secretary concerned, the Service member will be subject to the repayment provisions of 37 U.S.C. 303a(e).

(iii) Pursuant to 37 U.S.C. 303a(e), the Secretary concerned may establish procedures for determining the amount of the repayment required from the Service member and the circumstances under which an exception to the required repayment may be granted.

(iv) Reimbursement will be required from the Service member if a successful course completion is not obtained. For the purpose of reimbursement, a successful course completion is defined as a grade of “C” or higher for undergraduate courses, a “B” or higher for graduate courses and a “Pass” for “Pass/Fail” grades. Reimbursement will also be required from the Service member if he or she fails to make up a grade of “I” for incomplete within the time limits stipulated by the institution or 6 months after the completion of the class, whichever comes first. The Secretary of the Military Department will establish recoupment processes for unsuccessful completion of courses.

(10) Students using TA must maintain a cumulative grade point average (GPA) of 2.0 or higher after completing 15 semester hours, or equivalent, in undergraduate studies, or a GPA of 3.0 or higher after completing 6 semester hours or equivalent, in graduate studies, on a 4.0 grading scale. If GPA falls below these minimum GPA limits, TA will not be authorized and Service members will use alternative funding (such as financial aid or personal funds) to enroll in courses to raise the cumulative GPA to 2.0 for undergraduate studies or 3.0 for graduate studies.

(11) TA will not be authorized for any course for which a Service member receives reimbursement in whole or in part from any other Federal source when the payment would constitute a duplication of benefits. Academic institutions have the responsibility to notify the Service if there is any duplication of benefits, determine the amount of credit that should be returned, and credit the amount back to the Service. The use of funds related to veterans' benefits to supplement TA received by active duty and Reserve component personnel is authorized in accordance with applicable VA guidelines.

(12) Pell Grants may be used in conjunction with TA assistance to pay that portion of tuition costs not covered by TA.

(13) TA will be provided for courses provided by institutions awarding degrees based on demonstrated competency, if:

(i) Competency rates are equated to semester or quarter units of credit, and

(ii) The institution publishes traditional grade correlations with “Pass/Fail” grades, and

(iii) The institution provides a breakdown by course equivalent for Service members.

(14) Enrollment in a professional practicum integral to these types of programs is also authorized. However, normal DoD TA caps and ceilings apply; the cost of expanded levels of enrollment over and above these enrollment levels and normal caps and ceilings must be borne by the student.

(15) When used for postsecondary education, TA will be provided only for courses offered by postsecondary institutions whose home campus is operating within the United States, to include the District of Columbia and U.S. territories, which are accredited by a national or regional accrediting body recognized by the ED.

(16) On a date to be determined, but not earlier than 60 days following the publication of this part in the Federal Register, to receive TA, all institution home campuses must sign the revised DoD Voluntary Education Partnership Memorandum of Understanding (MOU) in appendices A, B, C, D, and E to this part, and the name of the institution must be posted on the DoD MOU Web site under the `Participating Institutions' tab (located at http://www.dodmou.com). One signed, revised DoD Voluntary Education Partnership MOU with the institution's home campus will cover any program offered by the institution, regardless of location. The requirement to sign the revised DoD MOU contained in this part applies to institutions with a previously approved and signed DoD MOU posted on the DoD MOU Web site.

(17) To the extent that any provision of the standard language of the DoD Voluntary Education Partnership MOU template in appendices A, B, C, D, and E to this part, results from DoD policy that conflicts with a state law or regulation, the DASD(MCFP) may authorize amending the standard language of the DoD Voluntary Education Partnership MOU template on a case-by-case basis to the extent permissible by Federal law or regulation.

(18) A DoD MOU with an institution may be suspended or terminated by DoD in the following circumstances:

(i) The DoD MOU with an institution may be terminated by the ASD(R&FM) following written notice and an opportunity to respond for the failure to comply with any element of this part of the DoD MOU. In addition, an otherwise qualified institution may be suspended from participating in the tuition assistance program by the ASD(R&FM) following written notice and an opportunity to respond through either the termination of an existing DoD MOU or the refusal by DoD to enter into a new DoD MOU upon indictment of the institution or any senior official of the institution on a criminal charge related to the operation of the institution. The decision of the ASD(R&FM) in either of these cases may be appealed to the USD(P&R), and the decision of the USD(P&R) will be deemed to be the final administrative action by DoD on the matter.

(ii) An otherwise qualified institution may also be immediately suspended from participating in the tuition assistance program through either the termination of an existing DoD MOU or the refusal to enter into a new DoD MOU by the USD(P&R) on national security grounds. Written notice of the action shall be provided to the institution, and, if practicable without damaging national security, the written notice shall include a short unclassified summary of the reasons for the action. Such a decision of the USD(P&R) is only appealable to the Secretary of Defense, who has authorized the Deputy Secretary of Defense to act on such an appeal.

(iii) The authorities under this part are not delegable.

(b) Guidelines for establishing, maintaining, and operating voluntary education programs.

(1) Education programs established under this part by each Military Service will:

(i) Provide for the academic, technical, intellectual, personal, and professional development of Service members, thereby contributing to the readiness of the Military Services and the quality of life of Service members and their families.

(ii) Increase Service members' opportunities for advancement and leadership by reinforcing their academic skills and occupational competencies with new skills and knowledge.

(iii) Lead to a credential, such as a high school diploma, certificate, or college degree, signifying satisfactory completion of the educational program.

(iv) Include an academic skills program, which allows personnel to upgrade their reading, writing, computation, and communication abilities in support of academic skills and military occupations and careers. Academic skills programs may include English as a Second Language, mathematics and basic science.

(v) Include programs and college offerings that support findings from periodic needs assessments conducted by the appropriate installation official (normally the Education Services Officer) for programs provided on the installation. The installation needs assessment process is used to determine such items as staffing requirements, course offerings, size of facilities, funding, or other standards for delivery of educational programs. Duplication of course offerings on an installation should be avoided. However, the availability of similar courses through correspondence or electronic delivery will not be considered duplication.

(vi) Be described in a publication or on-line source that includes on-installation educational programs, programs available at nearby installations, and colleges and universities nearby the installation.

(2) Each Military Service, in cooperation with community educational service providers, will provide support essential to operating effective education programs. This support includes:

(i) Adequate funds for program implementation, administration, and TA.

(ii) Adequately trained staff to determine program needs, counsel students, provide testing services, and procure educational programs and services. Education counseling will be provided by qualified professional (Education Services Series 1740 or individual with equivalent qualifications) individuals.

(iii) Adequate and appropriate classroom, laboratory, and office facilities and equipment, including computers to support local needs.

(iv) Access to telecommunications networks, computers, and physical or online libraries at times convenient to active duty personnel.

(3) In operating its programs, each Military Service will:

(i) Provide to newly assigned personnel, as part of their orientation to each new installation or unit of assignment for Reserve component personnel, information about voluntary education programs available at that installation, unit, or State for RC personnel.

(ii) Maintain participants' educational records showing education accomplishments and educational goals.

(iii) Provide for the continuing professional development of their education services staff, including the participation of field staff in professional, as well as Service-sponsored, conferences, symposiums, and workshops.

(iv) Provide educational services, including TA counseling, academic advice and testing to their personnel and to personnel of other Services (including the U.S. Coast Guard when operating as a service in the Navy) who are assigned for duty at installations of the host Service. These educational services will be provided by qualified professional (Education Services Series 1740 or individual with equivalent qualifications) individuals in sufficient numbers to operate voluntary education programs as determined by individual Service standards. Outcomes from these educational services will include the following:

(A) A prior learning assessment that includes a review of all education transcripts to include the joint services transcript, the Community College of the Air Force transcript, and academic transcript recommendations for ACE recommended credit.

(B) An assessment of readiness for the education plan that is in support of the Service member's career goals and a discussion of academic skills development programs.

(C) Discussion and review of technical credentials that can be obtained concurrent to academic pursuits.

(D) Discussion of credit-by-examination options.

(E) Review of academic program options, leading to a degree plan.

(F) Discussion with prospective military students on payment options and the use of education benefits for postsecondary courses to include DoD TA Program, Department of Veterans Affairs education benefit programs, state and federal grants and loans, commercial lending, and out-of-pocket costs for the Service member. Discussion will include streamlined tools and information to compare educational institutions using key measures of affordability and value through the VA eBenefits portal at http://www.ebenefits.va.gov. The eBenefits portal is updated by VA to facilitate access to school performance information and key Federal financial aid documents.

(v) Continually assess the state of its voluntary education programs and periodically conduct a formal needs assessment by the appropriate installation official (normally the Education Services Officer) to ensure that the best possible programs are available to their members at each installation or in their State or area command for RC personnel. It is essential that a formal needs assessment be conducted if there is a significant change in the demographic profile of the installation population.

(4) Eligible adult family members of Service members, DoD civilian employees and their eligible adult family members, and military retirees may participate in installation postsecondary education programs on a space-available basis at no cost to the individual Service TA programs.

(5) At locations where an educational program that is offered on an installation is not otherwise conveniently available outside the installation, civilians who are not directly employed by the DoD or other Federal agencies, and who are not eligible adult family members of DoD personnel, may be allowed to participate in installation educational programs. While such participation contributes to positive community relations, participation must be on a student-funded, space-available basis at no cost to the individual Service TA programs, after the registration of Service members, DoD civilian employees, eligible adult family members, and military retirees. Additionally, a review of these potential participants by the relevant installation ethics counselor may be required as part of the installation commander's access requirements. Participation may also be subject to the terms of status-of-forces or other regulating agreements.

(6) Education centers and Navy College offices will maintain liaison with appropriate State planning and approving agencies and coordinating councils to ensure that planning agencies for continuing, adult, or postsecondary education are aware of the educational needs of military personnel located within their jurisdiction.

(7) In supporting a high school completion program, each Military Service will:

(i) Ensure that all Service members with less than a high school education have the opportunity to attain a high school diploma or its equivalent.

(ii) Ensure that neither a Military Service nor DANTES issues a certificate or similar document to Service members based on performance on high school equivalency tests. Military Services will recognize attainment of high school completion or equivalency only after a State- or territory-approved agency has awarded the appropriate credential.

(iii) Pay 100 percent of the cost of high school equivalency instruction or proficiency testing and credentialing for Service members.

(iv) Ensure that Service sponsored high school diploma programs are delivered by institutions that are State-funded or a Service component program accredited by a regional accrediting body or recognized by a State's secondary school authority.

(c) Procedures for the installation education advisor, on behalf of the installation commander, to follow to obtain voluntary education programs and services from postsecondary institutions of higher learning.

(1) Since contacts by a school with a Service member for the purpose of asking or encouraging the member to sign up for one of the school's programs (assuming the program has some cost) are considered personal commercial solicitations, ensure schools comply with DoD Instruction 1344.07, “Personal Commercial Solicitation on DoD Installations” (available at http://www.dtic.mil/whs/directives/corres/pdf/134407p.pdf) and all requirements established by the installation commander for solicitation.

(2) Do not allow installation access to marketing firms or companies that own, operate, or represent higher-learning institutions; this privilege is reserved only for academic institution employees meeting the requirements as stated in the policy section of this part.

(3) Educational institutions interested in providing education, guidance, training opportunities, and participating in education fairs on a military installation provide their requests to the installation education advisor, who will review and analyze these requests on behalf of the installation commander.

(4) The installation education advisor will ensure all education institutions granted access to military bases to provide education, guidance, training opportunities, and participate in education fairs to Service members:

(i) Adhere to federal law, DoD Instruction 1344.07, DoD Instruction 1322.19, “Voluntary Education Programs in Overseas Areas” (available at http://www.dtic.mil/whs/directives/corres/pdf/132219p.pdf; and the cognizant Military Service's policies and regulations.

(ii) Comply with applicable installation policies and procedures designated by the installation commander on such matters as fire and safety, environment, physical security, personnel background checks, vehicle inspection and registration, and any other applicable statutes or regulations designated by the installation commander.

(5) Monitor institutions granted access to an installation to ensure they do not:

(i) Use unfair, deceptive, abusive or fraudulent devices, schemes, or artifices, including misleading advertising or sales literature.

(ii) Engage in unfair, deceptive, or abusive marketing tactics such as unit briefings or assemblies, open recruiting efforts or distribution of marketing materials on the installation.

(iii) Market to or recruit newly assigned military personnel to the installation, unless the Service member has received information about voluntary education programs and educational services available at that installation, to include TA, from their education services staff or as part of their orientation to the new installation.

(6) Ensure institutions of higher learning granted access to military installations to provide programs, services, or education guidance to their students meet the following criteria:

(i) Have a signed MOU with DoD.

(ii) Are in compliance with state requirements where services will be rendered.

(iii) Are State approved for the use of veteran's education benefits. For DL courses and programs, State approval for the use of veteran's education benefits will be certified in the State where the DL course or program originated or is managed. Copies of the certification will be filed with the appropriate state approving agency for the military or veteran student.

(iv) Are participating in Federal student aid programs through the U.S. Department of Education under title IV of the Higher Education Act of 1965.

(v) Are accredited by a national or regional accrediting body recognized by the U.S. Department of Education and conduct programs only from among those offered or authorized by the main administrative and academic office in accordance with standard procedures for authorization of degree programs by the institution.

(7) Military installations seeking an institution to provide on-installation education programs, through the installation education advisor, must:

(i) Communicate the installation's educational needs to a wide variety of potential providers.

(ii) Seek favorable tuition rates, student services, and instructional support from providers.

(iii) Provide to interested providers:

(A) The level of services, instruction desired and specific degree programs being sought.

(B) A demographic profile of the installation population and probable volume of participation in the program.

(C) Facilities and level of security at no charge to the institution.

(D) Cost associated with equipment and supporting services provided at the discretion of the installation.

(E) A copy of this part.

(F) Special requirements such as:

(1) Format (e.g., distance, evening, or weekend classes), independent study, short seminar, or other mode of delivery of instruction.

(2) Unique scheduling problems related to the operational mission of the installation.

(3) Any installation restrictions, limitations, or special considerations relevant to using an alternate delivery system (DL, etc.).

(4) Available computer hardware and supporting equipment.

(5) Electrical, satellite, and network capabilities at the site.

(8) In evaluating proposals, installation education advisors must ensure potential providers meet, at a minimum, the following criteria:

(i) Programs satisfy objectives defined by the most recent needs assessment.

(ii) Programs, courses, and completion requirements are the same as those at the provider's main administrative and academic campus.

(iii) The institution granting undergraduate academic credit must adhere to the Servicemembers Opportunity Colleges (SOC) Principles and Criteria (available at http://www.soc.aascu.org/socconsortium/PublicationsSOC.html) regarding the transferability of credit, the awarding of credit for military training and experience, and residency requirements.

(iv) The provider is prepared to:

(A) Offer academic counseling and flexibility in accommodating special military schedules.

(B) Ensure main administrative and academic office approval in faculty selection, assignment, and orientation; and participation in monitoring and evaluation of programs. Adjunct or part-time faculty will possess comparable qualifications as full-time permanent faculty members.

(C) Conduct on-installation courses that carry identical credit values, represent the same content and experience, and use the same student evaluation procedures as courses offered through the main administrative and academic campus. All substantive course change requirements must follow the schools accreditation agencies requirements. If the institution's accrediting agency's substantive change policy requires new courses or program offerings to be submitted to the agency for approval, the institution will be required to submit such items for approval prior to admitting Service members using military TA.

(D) Maintain the same admission and graduation standards that exist for the same programs at the main administrative and academic office, and include credits from courses taken off-campus in establishing academic residency to meet degree requirements.

(E) Provide library and other reference and research resources, in either print or electronic format, that are appropriate and necessary to support course offerings.

(F) Establish procedures to maintain regular communication between central institutional academic leadership and administrators and off-campus representatives and faculty. Any institution's proposal must specify these procedures.

(G) Provide students with regular and accessible academic and financial counseling services either electronically or in-person. At a minimum, this includes Title IV and VA education benefits.

(H) Charge tuition that is not more than tuition charged to nonmilitary students.

(I) Have established policies for awarding credit for military training by examinations, experiential learning, and courses completed using modes of delivery other than instructor-delivered, on-site classroom instruction.

(J) Conduct programs only from among those offered or authorized by the main administrative and academic office in accordance with standard procedures for authorization of degree programs by the institution.

(d) Requirements and procedures for institutions seeking access to the military installation solely to provide education guidance.

(1) Institutions must meet the criteria in paragraphs (c)(6)(i) through (c)(6)(v) of this section.

(2) Institutions must have an on installation student population of at least 20 active duty military students, except in overseas locations covered by DoD Instruction 1322.19. For this exception, only contracted institutions are permitted on overseas installations.

(3) Institutions must request access through the installation education advisor or Navy College Office Director via a written proposal. If a request is received from an institution seeking access to a joint military installation, the education advisor or Navy College Office Director from the installation education centers will work together to determine the appropriate Military Service to work the request. The request should include as a minimum:

(i) Institution name and intent or purpose of the visit.

(ii) Number and names of school representatives that will be available.

(iii) Counseling delivery method: By appointment or walk-in.

(iv) Communication process used to inform students of their availability for counseling.

(4) The installation education advisor will review and analyze the request on behalf of the installation commander. The installation commander has the final authority to approve, deny, suspend, or withdraw installation access permission from an institution, as deemed appropriate.

(5) If a request is received from an institution seeking access to a military installation, the installation education advisor or Navy College Office Director will:

(i) Fully consider requests from those institutions complying with requirements as stated in paragraphs (d)(1) through (d)(3) of this section and be consistent in treatment of institutions in accordance with this part. Also, consider the value to the Service member as it relates to geographic location, accessibility and mission tempo.

(ii) If request is denied, provide a timely response to the institution; inform institution they may reapply for access once reasons for denial are addressed.

(iii) Maintain copies of all correspondence in accordance with the installation records management schedule and disposition, with a minimum time requirement of two years.

(6) If an installation grants access to an institution to provide guidance to their students, the institution will:

(i) Only advise or counsel students at the education center or at a location approved by the education advisor.

(ii) Maintain a list of students counseled and provide a copy to the education office. List will annotate type of program and status of the Service member (current or reenrollment).

(iii) Comply with applicable installation policies and procedures designated by the installation commander on such matters as fire and safety, environment, physical security, personnel background checks, vehicle inspection and registration, and any other applicable statutes or regulations designated by the installation commander.

(e) Interservice Voluntary Education Board. Under the direction of the Voluntary Education Chief, the Interservice Voluntary Education Board is composed of full-time or permanent part-time employees of DoD or military members, and consists of one representative responsible for policy from the Office of the ASD(RA), and the senior voluntary education advisor responsible for policy each from the Army, Navy, Air Force, and Marine Corps The Director, DANTES, will serve as an ex-officio member. Meeting quarterly, the Board will:

(1) Provide a forum for the exchange of information and discussion of issues related to voluntary education programs.

(2) Develop recommendations for changes in policies and procedures.

(3) Develop recommendations for DANTES' activities and operations that support voluntary education programs.

(4) Review and prioritize DANTES activities that support DoD voluntary education programs, to include budget execution and recommend execution year adjustments.

(5) Develop recommended policy and program guidance for DANTES for the Future-Year Defense Program.

(f) DANTES.

(1) Guidance and recommendations for DANTES will be developed with the advice of the Interservice Voluntary Education Board.

(2) The selection and rating of the Director, DANTES will be as follows:

(i) The DASD(MCFP) will convene and chair the search committee responsible for replacing the Director, DANTES, when the position is vacated. At the request of the USD(P&R), the Secretaries of the Military Departments will provide a senior manager to sit on the search committee. The committee will recommend the best qualified candidate to the DoD EA for DANTES, for possible appointment as the Director, DANTES.

(ii) The DoD EA for DANTES will designate the rater of the Director, DANTES. The Director, State Liaison and Educational Opportunity within the Office of the USD(P&R), MCFP, will provide input to the DoD EA designated rater concerning the performance of the Director, DANTES.

(3) DANTES will:

(i) Support the Service voluntary education programs by executing the program outlined in this part and the annual USD(P&R) supplemental guidance for those items not reflected in this paragraph of this section.

(ii) Provide execution information to the Interservice Voluntary Education Board quarterly and provide information required to assist with the program objective memorandum development as requested by the Board.

(iii) Support DoD off-duty, voluntary education programs and conduct special projects and developmental activities in support of education-related DoD functions.

(iv) Assist the Military Services in providing high-quality and valuable educational opportunities for Service members, their eligible adult family members, and DoD personnel, and assist personnel in achieving professional and personal educational objectives. This role includes the consolidated management of programs that prevent duplication of effort among the Services. Through its activities, DANTES supports DoD recruitment, retention, and the transition efforts.

(v) Assume responsibilities and functions that include:

(A) Managing and facilitating the delivery of a wide variety of examinations including the General Equivalency Diploma test, college admissions, credit-by-examination programs, and an extensive number of certification examinations.

(B) Upon request, issuing transcripts for the United States Armed Forces Institute and the examination and certification programs.

(C) Managing the contract through which former DoD Dependents Schools students can obtain copies of archived transcripts.

(D) Managing the contract and functions related to the evaluation of educational experiences in the Military Services that are covered by the contract.

(E) Providing or developing and distributing educational materials, reference books, counseling publications, educational software, and key educational resource information to DoD Components and the installations.

(F) Managing the SOC program contract and related functions.

(G) Managing the DoD contract that provides for periodic third-party reviews of DoD voluntary education programs entitled the Third Party Education Assessment.

(H) Managing the data received on the voluntary education programs for the Voluntary Education Management Information System (VEMIS), which includes gathering, collating, and verifying participation and cost data from the Services. Providing requisite consolidated reports to USD(P&R). Requested data from the Military Services on voluntary education programs is located and stored at https://afaems.langley.af.mil/vemis. A user guide containing voluntary education program data and report information for the Military Services and DANTES is also available at this Web site, under the “Resources” tab.

(I) Managing the DoD independent study catalog and its support systems, as required.

(J) Negotiating, administering, and coordinating contracts for DoD Worldwide Education Symposiums in support of and in conjunction with the Interservice Voluntary Education Board.

(K) Establishing, refining, updating, and maintaining information on worldwide education support of DoD off-duty, voluntary education programs on the Internet. Maintaining necessary infrastructure to ensure that information on the Internet is always current and available to leadership, agency personnel, the public, and others.

(L) Administering the TTT program in accordance with section 1154 of chapter 58 of 10 U.S.C.

(M) Monitoring new technological developments, providing reports, cost analyses, and recommendations on educational innovations, and conducting special projects requested by the Department of Defense and the Services, approved by the Interservice Voluntary Education Board, and as reflected and approved in DANTES' annual policy guidance.

(N) Conducting staff development training on DANTES' policies, procedures, and practices related to voluntary education testing programs, and providing additional training as requested by the Office of the Secretary of Defense and the Services.

(O) Serving as the Defense Media Activity's point of contact for information on DANTES programs for military personnel.

(P) Providing support, as requested, to DoD and Service Quality of Life and Transition support programs.

(Q) Providing other support in mission areas as directed by the USD(P&R) and the DASD(MCFP).

(R) Managing DoD Contingency Tri-Service Contracts, which provide educational opportunities for deployed Service members with guidance and oversight from the DoD Voluntary Education Chief.

(S) Monitoring and maintaining liaison with the office responsible for consolidating and distributing the joint services transcript for the Services.

(vi) Maintain liaison with education services officials of the Military Services, and appropriate Federal and State agencies and educational associations, in matters related to the DANTES mission and assigned functions.

(vii) Serve on panels and working groups designated by the DASD(MCFP).

(viii) Serve as the Executive Secretary at the Interservice Voluntary Education Board meeting convened annually to review DANTES programs and to develop recommendations for inclusion in annual policy guidance for DANTES. In this role, the Director, DANTES, will coordinate the meeting, prepare the agenda, review and analyze DANTES programs and initiatives outlined in the prior year's operational plan, and provide minutes after the meeting.

(ix) Maintain the repository for the DoD Voluntary Education Partnership MOU between USD(P&R) and partner institutions, to include Service-specific addendums (see the Appendix to this section for template of DoD MOU). DANTES will:

(A) Administer and update the system that stores the repository of the MOUs per guidance from USD(P&R).

(B) Create, track, and maintain a centrally managed database for all signed documents.

(C) Publish an Internet-based list of all institutions that have a signed partnership DoD MOU.

(D) Generate reports in accordance with guidance from the USD(P&R) and procedures in DTM 12-004, “DoD Internal Information Collections” (available at http://www.dtic.mil/whs/directives/corres/pdf/DTM-12-004.pdf) and DoD 8910-1-M, “Department of Defense Procedures for Management of Information Requirements” (available at http://www.dtic.mil/whs/directives/corres/pdf/891001m.pdf).

(x) Provide data analyses and generate reports required by DoD and the Interservice Voluntary Education Board as needed.

Appendix A to Part 68—DoD Voluntary Education Partnership Memorandum of Understanding (MOU) Between DoD Office of the Under Secretary of Defense for Personnel and Readiness (USD(P&R)) and [Name of Educational Institution]

1. Preamble.

a. Providing access to quality postsecondary education opportunities is a strategic investment that enhances the U.S. Service member's ability to support mission accomplishment and successfully return to civilian life. A forward-leaning, lifelong learning environment is fundamental to the maintenance of a mentally powerful and adaptive leadership-ready force. Today's fast-paced and highly mobile environment, where frequent deployments and mobilizations are required to support the Nation's policies and objectives, requires DoD to sponsor postsecondary educational programs using a variety of learning modalities that include instructor-led courses offered both on- and off-installation, as well as distance learning options. All are designed to support the professional and personal development and progress of the Service members and our DoD civilian workforce.

b. Making these postsecondary programs available to the military community as a whole further provides Service members, their eligible adult family members, DoD civilian employees, and military retirees ways to advance their personal education and career aspirations and prepares them for future vocational pursuits, both inside and outside of DoD. This helps strengthen the Nation by producing a well-educated citizenry and ensures the availability of a significant quality-of-life asset that enhances recruitment and retention efforts in an all-volunteer force.

2. Purpose.

a. This MOU articulates the commitment and agreement educational institutions provide to DoD by accepting funds via each Service's tuition assistance (TA) program in exchange for education services.

b. This MOU is not an obligation of funds, guarantee of program enrollments by DoD personnel, their eligible adult family members, DoD civilian employees, and retirees in an educational institution's academic programs, or a guarantee for installation access.

c. This MOU covers courses delivered by educational institutions through all modalities. These include, but are not limited to, classroom instruction, distance education (i.e., web-based, CD-ROM, or multimedia) and correspondence courses.

d. This MOU includes high school programs, academic skills programs, and adult education programs for military personnel and their eligible adult family members.

e. This MOU articulates regulatory and governing directives and instructions:

(1) Eligibility of DoD recipients is governed by Federal law, DoD Instruction 1322.25, DoD Directive 1322.08E, and the cognizant Military Service's policies, regulations, and fiscal constraints.

(2) Postsecondary educational programs provided to Service members using TA on military installations outside of the United States, will be operated in accordance with guidance from DoD Instruction 1322.25, DoD Instruction 1322.19, section 1212 of Public Law 99-145, as amended by section 518 of Public Law 101-189; and under the terms of the Tri-Services contract currently in effect.

f. This MOU is subject at all times to Federal law and the rules, guidelines, and regulations of DoD. Any conflicts between this MOU and such Federal law, rules, guidelines, and regulations will be resolved in favor of the Federal law, rules, guidelines, or regulations.

3. Educational Institution (Including Certificate and Degree Granting Educational Institutions) Requirements for TA. Educational institutions must:

a. Sign and adhere to requirements of this MOU, including Service-specific addendums as appropriate, prior to being eligible to receive TA payments.

(1) Those educational institutions that have a current MOU with DoD will sign this MOU:

(a) At the expiration of their current MOU;

(b) At the request of DoD or the specific Military Service holding a separate current MOU. The DoD Voluntary Education Partnership MOU (which includes the Service-specific addendums) is required for an institution to participate in the DoD TA Program. An “installation MOU” (which is separate from this MOU) is only required if an institution is operating on a military installation. The installation MOU:

1. Contains the installation-unique requirements that the installation's education advisor coordinated, documented, and retained; is approved by the appropriate Service voluntary education representative; and is presented to the installation commander for final approval.

2. Cannot conflict with the DoD Voluntary Education Partnership MOU and governing regulations.

(2) Educational institutions must comply with this MOU and the requirements in Service-specific addendums that do not conflict with governing Federal law and rules, guidelines, and regulations, which include, but are not limited to, Title 10 of the U.S. Code; DoD Directive 1322.08E, “Voluntary Education Programs for Military Personnel”; DoD Instruction 1322.25, “Voluntary Education Programs”; DoD Instruction 1322.19, “Voluntary Education Programs in Overseas Areas”; and all installation requirements imposed by the installation commander, if the educational institution has been approved to operate on a particular base. Educational institutions failing to comply with the requirements set forth in this MOU may receive a letter of warning, be denied the opportunity to establish new programs, have their MOU terminated, be removed from the installation, and may have the approval of the issuance of TA withdrawn by the Service concerned.

b. Be accredited by a national or regional accrediting agency recognized by the U.S. Department of Education, approved for VA funding, and participating in Federal student aid programs through the Department of Education under Title IV of the Higher Education Act of 1965.

c. Comply with the regulatory guidance provided by DoD and the Services.

d. Participate in the Third Party Education Assessment process when requested. This requirement applies not only to institutions providing courses on military installations, but also to those institutions that provide postsecondary instruction that is not located on the military installation or via DL.

(1) If an institution is operating on the military installation, the institution will resolve the assessment report findings and provide corrective actions taken within six months following the Third Party Education Assessment to the appropriate education advisor on the military installation, the appropriate Service Voluntary Education Chief, and the DoD Voluntary Education Chief.

(2) If an institution is operating off the military installation or via DL, the institution will resolve the assessment report findings and provide corrective actions taken within six months following the Third Party Education Assessment to the DoD Voluntary Education Chief.

(3) In instances when the resolution action cannot be completed within the six month timeframe, the institution will submit a status report every three months to the appropriate education advisor on the military installation if the institution is operating on the military installation, and the DoD Voluntary Education Chief, until the recommendation is resolved.

e. Prior to enrollment, provide each student with specific information on locating, understanding, and using the following tools:

(1) The College Scorecard is a consumer planning tool and resource to assist prospective students and their families as they evaluate options in selecting a school and is located at: http://collegecost.ed.gov/scorecard/.

(2) The Department of Education's Financial Aid Shopping Sheet is used by institutions to assist prospective students and their families better understand the costs of attending an institution before making the final decision on where to enroll. The Shopping Sheet is located at http://collegecost.ed.gov/shopping_sheet.pdf.

(3) The Consumer Financial Protection Bureau, located at http://www.consumerfinance.gov. The Web site allows prospective students to enter the names of up to three schools and receives detailed financial information on each one and to enter actual financial aid award information.

f. Designate a point of contact or office for academic and financial advising, including access to disability counseling, to assist Service members with completion of studies and with job search activities.

(1) The designated person or office will serve as a point of contact for Service members seeking information about available, appropriate academic counseling, financial aid counseling, and student support services at the institution;

(2) Point of contact will have:

(a) Basic understanding of the military tuition assistance program, Department of Education Title IV funding, education benefits offered by the VA, and familiarity with institutional services available to assist Service members; and

(b) The point of contact does not need to be exclusively dedicated to providing these services and, as appropriate, may refer the Service member to other individuals with an ability to provide these services, both on- and off-campus.

g. Prior to offering, recommending, arranging, signing-up, dispersing, or enrolling Service members for private student loans, provide Service members access to an institutional financial aid advisor who will make available appropriate loan counseling to include but not limited to:

(1) Providing a clear and complete explanation of available financial aid, to include Title IV of the Higher Education Act of 1965, as amended;

(2) Describing the differences between private and Federal student loans and how Federal student loans generally offer more favorable terms, conditions, repayment and forgiveness options;

(3) Disclosing the institution's student loan Cohort Default Rate (CDR), the percentage of its students who borrow, and how its CDR compares to the national average. If the institution's CDR is greater than the national average CDR, it must disclose that information and provide the student with loan repayment data; and

(4) Explaining that students have the ability to refuse all or borrow less than the maximum student loan amount allowed.

h. Have a readmissions policy for Service members:

(1) Allow Service members and reservists to be readmitted to a program if they are temporarily unable to attend class or have to suspend their studies due to service requirements.

(2) Follow the regulation released by the Department of Education (34 CFR 668.8) regarding readmissions requirements for returning Service members seeking readmission to a program that was interrupted due to a Military service obligation, and to apply those provisions to Service members that are temporarily unable to attend classes for less than 30 days within a semester or similar enrollment period due to a Military service obligation. A description of the provisions for U.S. Armed Forces members and their families is provided in Chapter 3 of Volume 2 of the Federal Student Aid Handbook.

i. Have policies in place and within compliance with the regulations issued by the Department of Education (34 CFR 688.71-668.75 and 668.14) related to program integrity issues, including restrictions on recruitment, misrepresentation, and payment of incentive compensation. Adopt an institutional policy banning inducements (including any gratuity, favor, discount, entertainment, hospitality, loan, transportation, lodging, meals, or other item having a monetary value of more than a de minimus amount) to any individual or entity (other than salaries paid to employees or fees paid to contractors in conformity with all applicable laws) for the purpose of securing enrollments of Service members or obtaining access to TA funds as part of efforts to eliminate unfair, deceptive, and abusive marketing aimed at Service members.

j. Have policies in place and within compliance with the regulations issued by the Department of Education (34 CFR 688.43, 668.71-668.75, 668.14 and 600.9) related to program integrity issues, including State authorization. Refrain from high-pressure recruitment tactics as part of efforts to eliminate unfair, deceptive, and abusive marketing aimed at Service members. Such tactics include making multiple unsolicited phone calls to Service members for the purpose of securing their enrollment.

k. Refrain from providing any commission, bonus, or other incentive payment based directly or indirectly or use third party lead generators on securing enrollments or Federal financial aid (including TA funds) to any persons or entities engaged in any student recruiting, admission activities, or making decisions regarding the award of student financial assistance. These tactics are discouraged as part of efforts to eliminate unfair, deceptive, and abusive marketing aimed at Service members.

l. Refrain from automatic program renewals, bundling courses or enrollments. The student and Military Service must approve all course enrollments prior to the start date of the class.

m. If the institution is a member of the Servicemembers Opportunity Colleges (SOC), in addition to the requirements stated in paragraphs 3.a through 3.l of this DoD MOU, the institution will:

(1) Adhere to the SOC Principles, Criteria, and Military Student Bill of Rights. (located at http://www.soc.aascu.org/socconsortium/PublicationsSOC.html).

(2) Provide processes to determine credit awards and learning acquired for specialized military training and occupational experience when applicable to a Service member's degree program.

(3) Recognize and use the ACE Guide to the Evaluation of Educational Experiences in the Armed Services to determine the value of learning acquired in military service. Award credit for appropriate learning acquired in military service at levels consistent with ACE Guide recommendations and/or those transcripted by the Community College of the Air Force, when applicable to a Service member's program.

n. If an institution elects not to be a member of SOC, in addition to the requirements stated in paragraphs 3.a. through 3.l. of this DoD MOU, the institution will:

(1) Disclose its transfer credit policies prior to a Service member's enrollment.

(a) If the institution accepts transfer credit from other accredited institutions, then the institution agrees to evaluate these credits in conformity with the principles set forth in the Joint Statement on the Transfer and Award of Credit developed by members of the American Association of Collegiate Registrars and Admissions Officers, the American Council on Education, and the Council for Higher Education Accreditation. The institution will then award appropriate credit, to the extent practicable within the framework of its institutional mission and academic policies.

(b) Decisions about the amount of transfer credit accepted, and how it will be applied to the student's program, will be left to the institution.

(2) Disclose its policies on how they award academic credit for prior learning experiences, including military training and experiential learning opportunities provided by the Military Services, at or before a Service member's enrollment.

(a) In so far as the institution's policies generally permit for the award of credit for comparable prior learning experiences, the institution agrees to evaluate the learning experiences documented on the Service member's official Service transcripts, and, if appropriate, award credit.

(b) The joint services transcript is an official education transcripts tool for documenting the recommended college credits for professional military education, training courses, and occupational experiences of Service members across the Services. The joint services transcript incorporates data from documents such as the Army/ACE Registry Transcript System, the Sailor/Marine ACE Registry Transcript System, the Community College of the Air Force transcript, and the Coast Guard Institute transcript.

(c) Decisions about the amount of experiential learning credit awarded, and how it will be applied to the student's program, will be left to the institution. Once an institution has evaluated a particular military training or experiential learning opportunity for a given program, the institution may rely on its prior evaluation to make future decisions about awarding credit to Service members with the same military training and experience documentation, provided that the course content has not changed.

(3) If general policy permits, transfer credit or credit awarded for prior learning may:

(a) Replace a required course within the major;

(b) Apply as an optional course within the major;

(c) Apply as a general elective;

(d) Apply as a basic degree requirement; or

(e) Waive a prerequisite.

(4) Disclose to Service members any academic residency requirements pertaining to the student's program of study, including total and any final year or final semester residency requirement at or before the time the student enrolls in the program.

(5) Disclose basic information about the institution's programs and costs, including tuition and other charges to the Service member. This information will be made readily accessible without requiring the Service member to disclose any personal or contact information.

(6) Prior to enrollment, provide Service members with information on institutional “drop/add,” withdrawal, and readmission policies and procedures to include information on the potential impact of military duties (such as unanticipated deployments or mobilization, activation, and temporary duty assignments) on the student's academic standing and financial responsibilities. For example, a Service member's military duties may require relocation to an area where he or she is unable to maintain consistent computer connectivity with the institution, which could have implications for the Service member's enrollment status. This information will also include an explanation of the institution's grievance policy and process.

(7) Conduct academic screening and competency testing; make course placement based on student readiness.

4. TA Program Requirements for Educational Institutions

a. One Single Tuition Rate. All Service members attending the same institution, at the same location, enrolled in the same course, will be charged the same tuition rate without regard to their Service component. This single tuition rate includes active duty Service members and the National Guard and Reservists who are activated under Title 10 and using Title 10 Military Tuition Assistance, in order to assure that tuition rate distinctions are not made based on the Service members' branches of Service.

(1) It is understood tuition rates may vary by mode of delivery (traditional or online), at the differing degree levels and programs, and residency designations (in-state or out-of-state). Tuition rates may also vary based on full-time or part-time status, daytime vs. evening classes, or matriculation date, such as in the case of a guaranteed tuition program.

(2) It is also understood that some States have mandated State rates for Guard and Reservists within the State. (Those Guard and Reservists not activated on title 10, U.S. Code orders).

b. Course Enrollment Information. The educational institutions will provide course enrollment, course withdrawal, course cancellation, course completion or failure, grade, verification of degree completion, and billing information to the TA issuing Service's education office, as outlined in the Service's regulations and instructions.

(1) Under section 1232g of title 20, United States Code (also known as “The Family Educational Rights and Privacy Act” and hereinafter referred to as “FERPA”), DoD recognizes that institutions are required to obtain consent before sharing personally identifiable non-directory information with a third party. Service members must authorize the institutions to release and forward course enrollment information required in 4.b. to DoD prior to approval of course enrollment using tuition assistance.

(2) If an institution wants to ensure confidentiality during the transmission of data to the third party, then the institution can contact the appropriate Service TA management point of contact to discuss security and confidentiality concerns prior to transmitting information.

c. Degree Requirements and Evaluated Education Plans

(1) Institutions will disclose general degree requirements for the Service member's educational program (education plan) to the member and his or her Service prior to the enrollment of the Service member at the institution. These requirements, typically articulated in the institution's course catalog, should:

(a) Include the total number of credits needed for graduation.

(b) Divide the coursework students must complete in accordance with institutional academic policies into general education, required, and elective courses.

(c) Articulate any additional departmental or graduate academic requirements, such as satisfying institutional and major field grade point average requirements, a passing grade in any comprehensive exams, or completion of a thesis or dissertation.

(2) In addition to providing degree requirements, the institution will provide to Service members who have previous coursework from other accredited institutions and relevant military training and experiential learning an evaluated educational plan that indicates how many, if any, transfer credits it intends to award and how these will be applied toward the Service member's educational program. The evaluated educational plan will be provided within 60 days after the individual has selected a degree program and all required official transcripts have been received.

(3) When a Service member changes his or her educational goal or major at the attending school and the Services' education advisor approves the change, then the institution will provide a new evaluated educational plan to the Service member and the Service. Only courses listed in the Service member's education plan will be approved for TA.

(4) Degree requirements in effect at the time of each Service member's enrollment will remain in effect for a period of at least one year beyond the program's standard length, provided the Service member is in good academic standing and has been continuously enrolled or received an approved academic leave of absence. Adjustments to degree requirements may be made as a result of formal changes to academic policy pursuant to institutional or departmental determination, provided that:

(a) They go into effect at least two years after affected students have been notified; or

(b) In instances when courses or programs are no longer available or changes have been mandated by a State or accrediting body, the institution will work with affected Service members to identify substitutions that would not hinder the student from graduating in a timely manner.

(5) Prior to the enrollment of a Service member, the institution must obtain the approval of the institution's accrediting agency for a new course or program offering, provided such approval is appropriate under the substantive change requirements of the accrediting agency.

d. Approved and TA Eligible Courses.

(1) Approved Courses. If an eligible Service member decides to use TA, educational institutions will enroll him or her only after the TA is approved by the individual's Service. Service members will be solely responsible for all tuition costs without this prior approval. This requirement does not prohibit an educational institution from pre-registering a Service member in a course in order to secure a slot in the course. If a school enrolls the Service member before the appropriate Service approves Military TA, then the Service member could be responsible for the tuition. All Military TA must be requested and approved prior to the start date of the course. The Military TA is approved on a course-by-course basis and only for the specific course(s) and class dates that a Service member requests. If a military student “self-identifies” their eligibility and the Service has not approved the funding, then the Service member will be solely responsible for all tuition costs, not the Service.

(2) TA Eligible Courses. Courses will be considered eligible for TA if they are:

(a) Part of an individual's evaluated educational plan; or

(b) Prerequisites for courses within the individual's evaluated educational plan; or

(c) Required for acceptance into a higher-level degree program, unless otherwise specified by Service regulations.

e. Use of Financial Aid with TA.

(1) “Top-Up” eligible active duty DoD personnel may use this Montgomery or Post-9/11 G.I. Bill benefit in conjunction with TA funds from their Service to cover those course costs to the Service member that exceed the amount of TA paid by his or her Service. Reserve Component members who have paid for Chapter 30 G.I. Bill benefits may use those benefits concurrently with TA. Reserve Component members who have earned entitlement for the Post-9/11 G.I., Bill may combine VA benefits and TA as long as the combined benefits do not total more than 100 percent of the actual costs of tuition.

(2) DoD personnel are entitled to consideration for all forms of financial aid that educational institutions make available to students at their home campus. Educational institution financial aid officers will provide information and application processes for Title IV student aid programs, scholarships, fellowships, grants, loans, etc., to DoD TA recipients.

(3) Service members identified as eligible DoD TA recipients, who qualify for Pell Grants through the Department of Education's student aid program, will have their TA benefits applied to their educational institution's account prior to the application of their Pell Grant funds to their account. Unlike TA funds, which are tuition-restricted, Pell Grant funds are not tuition-restricted and may be applied to other allowable charges on the account.

f. Administration of Tuition.

(1) The Services will provide TA in accordance with DoD- and Service-appropriate regulations.

(2) TA will be limited to tuition and is refundable in accordance with the institution's tuition refund policy. Additionally, the following refund requirements must be met:

(a) Must be 100 percent refundable up until the start of the course.

(b) The institution's policy for returning unearned TA funds for Service members who stop attending due to Military service obligations must be aligned with provisions in section 484B of Title IV of the Higher Education Act of 1965, and the Department of Education regulations set out at 34 CFR 668.22.

(c) The institution's policy for returning unearned TA funds for Service members who withdraw prior to the course completion must be aligned with provisions in section 484B of Title IV of the Higher Education Act of 1965, and with Department of Education regulations set out at 34 CFR 668.22.

(3) Tuition charged to a Service member will in no case exceed the rate charged to nonmilitary students, unless agreed upon in writing by both the institution and the Service.

(4) Institutions will provide their tuition charges for each degree program to the Services on an annual basis. Any changes in the tuition charges will be provided to and justified to all the Services, as soon as possible, but not fewer than 90 days prior to implementation. If the MOU is with a single educational institution, at a single location, with only one Service, the justification will be provided to that Service, which will then provide that information to the other Services.

(a) Tuition at many public institutions are established by entities over which they have no jurisdiction, such as State legislatures and boards. As such, in some instances tuition decisions will not be made within the 90-day requirement window.

(b) When this happens, the institution should request a waiver (via the DoD MOU Web page) and provide the Services with the new tuition charges. This will ensure the correct rates are applied when a Service member requests tuition to attend the State institution.

(5) Refunds of Government-funded TA will be paid in accordance with the institution's published refund policy and will go to the Service, not to the Service member.

(6) The institution will refund to the Service the total amount of tuition paid for a course that is cancelled by the institution.

(7) TA invoicing information is located in the Service-specific addendums attached to this MOU.

g. Course Cancellations. Institutions are responsible for notifying Service members of class cancellations for both classroom and DL courses.

h. Materials and Electronic Accessibility.

(1) Institutions will ensure that course materials are readily available, either electronically or in print medium, and provide information about where the student may obtain class materials at the time of enrollment or registration.

(2) Institutional representatives will refrain from encouraging or requiring students to purchase course materials prior to confirmation of sufficient enrollments to conduct the class. Students will be encouraged to verify course acceptance by CCAF (Air Force only) or other program(s), with the installation education advisor before enrolling or requesting TA.

(3) Institutions will provide, where available, electronic access to their main administrative and academic center's library materials, professional services, relevant periodicals, books, and other academic reference and research resources in print or online format that are appropriate or necessary to support the courses offered. Additionally, institutions will ensure adequate print and non-print media resources to support all courses being offered are available at base or installation library facilities, on-site Institution resource areas, or via electronic transmission.

i. Graduation Achievement Recognition.

(1) The educational institution will issue, at no cost to the Government, documentation as proof of completion, such as a diploma or certificate, to each student who completes the respective program requirements and meets all financial obligations.

(2) In accordance with Service requirements, the institution will provide the Service concerned with a list of those TA recipients who have completed a certificate, diploma, or degree program. The list will include the degree level, major, and program requirements completion date.

(3) The academic credentials for certificate, diploma, or degree completion should reflect the degree-granting institution and campus authorized to confer the degree.

(a) If the Service member attends a branch of a large, multi-branch university system, the diploma may indicate the credential of the specific campus or branch of the institution from which the student received his or her degree.

(b) Credentials will be awarded to Service members with the same institutional designation as non-Service members who completed the same course work for a degree from the same institution.

(4) The institution will provide students with the opportunity to participate in a graduation ceremony.

j. Reporting Requirements and Performance Metrics.

(1) The institution will provide reports via electronic delivery on all DoD TA recipients for programs and courses offered to personnel as required by the cognizant Service. This includes, but is not limited to, TA transactions, final course grades to include incompletes and withdrawals, degrees awarded, certificates earned, evaluated educational plans, courses offered, and military graduation. Institutions providing face-to-face courses on a military installation will provide a class roster to the installation education advisor. The class roster will include information such as the name of the instructor, the first and last name of each student (military and non-military), the course title, the class meeting day(s), the start and ending time of the class, and the class location (e.g., building and room number).

(a) All reporting and transmitting of this information will be done in conformity with all applicable privacy laws, including FERPA.

(b) Institutions will respond to these requests in a timely fashion, which will vary based on the specific nature and scope of the information requested.

(2) The cognizant Service may evaluate the institution's overall effectiveness in administering its academic program, courses, and customer satisfaction to DoD. A written report of the findings will be provided to the institution. The institution will have 90 calendar days to review the report, investigate if required, and provide a written response to the findings.

(3) The Services may request reports from an institution at any time, but not later than 2 years after termination of the MOU with such institution. Responses to all requests for reports will be provided within a reasonable period of time, and generally within 14 calendar days. Institutional response time will depend on the specific information sought by the Services in the report.

5. Requirements and Responsibilities for the Delivery of On-Installation Voluntary Education Programs and Services

a. The requirements in this section pertain to institutions operating on a military installation.

An installation MOU:

(1) Is required if an institution is operating on a military installation.

(2) Contains only the installation-unique requirements coordinated by the installation's education advisor, with concurrence from the appropriate Service voluntary education representative, and approved by the installation commander.

(3) Cannot conflict with the DoD Voluntary Education Partnership MOU and governing regulations.

b. Educational institutions will:

(1) Agree to have a separate installation MOU if they have a Service agreement to provide on-installation courses or degree programs.

(2) Comply with the installation-unique requirements in the installation MOU.

(3) Agree to coordinate degree programs offered on the installation with the installation's education advisor, who will receive approval from the installation commander, prior to the opening of classes for registration.

(4) Admit candidates to the institution's on-installation programs at their discretion; however, priority for registration in installation classes will be given in the following order:

(a) Service members.

(b) Federally funded DoD civilian employees.

(c) Eligible adult family members of Service members and DoD civilian employees.

(d) Military retirees.

(e) Non-DoD personnel.

(5) Provide the installation's education advisor, as appropriate, a tentative annual schedule of course offerings to ensure that the educational needs of the military population on the installation are met and to ensure no course or scheduling conflicts with other on-installation programs.

(6) Provide instructors for their installation courses who meet the criteria established by the institution to qualify for employment as a faculty member on the main administrative and academic center.

(7) Inform the installation education advisor about cancellations for classroom-based classes on military installations per the guidelines set forth in the separate installation MOU.

c. The Services' designated installation representative (usually the installation education advisor), will be responsible for determining the local voluntary education program needs for the serviced military population and for selecting the off-duty educational programs to be provided on the installation, in accordance with the Services' policies. The Service, in conjunction with the educational institution, will provide support services essential to operating effective educational programs. All services provided will be commensurate with the availability of resources (personnel, funds, and equipment). This support includes:

(1) Classroom and office space, as available. The Service will determine the adequacy of provided space.

(2) Repairs as required to maintain office and classroom space in “good condition” as determined by the Service, and utility services for the offices and classrooms of the institution located on the installation (e.g., electricity, water, and heat).

(3) Standard office and classroom furnishings within available resources. No specialized equipment will be provided.

(4) Janitorial services in accordance with installation facility management policies and contracts.

d. The Service reserves the right to disapprove installation access to any employee of the institution employed to carry out any part of this MOU.

e. Operation of a privately owned vehicle by institution employees on the installation will be governed by the installation's policies.

f. The installation education advisor will check with his or her Service's responsible office for voluntary education prior to allowing an educational institution to enter into an MOU with the installation.

6. Review, Modifications, Signatures, Effective Date, Expiration Date, and Cancellation Provision.

a. Review. The signatories (or their successors) will review this MOU periodically in coordination with the Services, but no less than every five years to consider items such as current accreditation status, updated program offerings, and program delivery services.

b. Modifications. Modifications to this MOU will be in writing and, except for those required due to a change in State or Federal law, will be subject to approval by both of the signatories below, or their successors.

c. Signatures. The authorized signatory for DoD shall be designated by the USD(P&R). The authorized signatory for the institution will be determined by the institution.

d. Effective Date. This MOU is effective on the date of the later signature.

e. Expiration Date. This MOU will expire five years from the effective date, unless terminated or updated prior to that date in writing by DoD or the Institution.

f. Cancellation Provision. This MOU may be cancelled by either DoD or the Institution 30 days after receipt of the written notice from the cancelling party. In addition, termination and suspension of an MOU with an institution may be done at any time for failure to follow a term of this MOU or misconduct in accordance paragraphs (a)(18)(i) through (a)(18)(iii) of § 68.6.

For the Department of Defense:

Designated Signatory

Date

For the Institution:

President or Designee

Date

Appendix B to Part 68—Addendum for Education Services Between [Name of Educational Institution] and the U.S. Air Force (USAF)

1. Purpose. This addendum is between (Name of Educational Institution), hereafter referred to as the “Institution,” and the United States Air Force (USAF). The purpose of this agreement is to provide guidelines and procedures for the delivery of educational services to Service members, DoD civilian employees, eligible adult family members, military retirees, and non-DoD personnel not covered in the DoD Voluntary Education Partnership Memorandum of Understanding (MOU) between the DoD Office of the Under Secretary of Defense for Personnel and Readiness and the Institution. This addendum is not to be construed in any way as giving rise to a contractual obligation of the USAF to provide funds to the Institution that would be contrary to Federal law.

2. Responsibilities.

a. USAF Education and Training Section (ETS) Chief. The USAF ETS Chief will:

(1) Maintain a continuing liaison with the designated Institution representative and be responsible for inspections and the acceptance of the Institution's services. The ETS Chief will assist the Institution representative to provide military and USAF culture orientation to the Institution personnel.

(2) Review requests from Institutions with no on-installation MOU for permission of installation access and space within the ETS to counsel current students, provide information briefings and materials, attend education fairs, and provide other informational services approved by the installation commander. Approval depends on the installation commander. Approval of any school eligible for Military TA will be extended equally to all such schools; same time allotment, space, and frequency.

(3) Assist the Institution or refer them to the information technology contractor for training in the use of the Academic Institution Portal (AI Portal) regarding input of Institution information, degree offerings, tuition rates, grades, invoices, degree completions, and search tools pre-built into the USAF online Voluntary Education System.

b. Institutions will:

(1) Appoint and designate an Institution representative to maintain a continuing liaison with the USAF ETS Chief.

(2) Provide general degree requirements to each airman for his or her education program and the ETS as soon as he or she decides to register with the Institution and while awaiting final evaluation of transfer credits.

(3) Assume responsibility for the administration and proctoring of all course examinations not normally administered and proctored within the traditional, in-the-classroom setting.

(4) Provide to airmen, upon their request, information on Institution policies including, but not limited to, course withdrawal dates and penalties, course cancellation procedures, course grade publication, billing practices, and policy regarding incompletion of a course. Face-to-face counseling is not required.

(5) Register and use the AI Portal to input Institution basic information, degree offerings, tuition rates, invoice submission, course grades submission, degree completions, and to pull pre-established educational institution reports while conducting business with the USAF.

(6) Submit one consolidated invoice per term via the AI Portal for each class in which active duty military airmen are enrolled using Mil TA. Submission will be made during the term, no earlier than after the final add/drop/census date, and no later than 30 calendar days after the end of the term.

(7) Submit course grades via the AI Portal for each class in which active duty military airmen are enrolled using Mil TA. Submission will be made no later than 30 calendar days after the end of the term.

(8) Accept the Government Purchase Card (GPC) for payment of Mil TA.

(9) Provide a list of program graduates via the AI Portal consisting of student name, program title, program type (such as bachelor's degree), and date of graduation no later than 30 calendar days after the end of the term in which graduation requirements are completed. If the AI Portal is not available, provide directly to the base Education and Training Section.

c. Institutions with no on-installation MOU are authorized to request permission for installation access and space within the ETS to counsel current students, provide information briefings and materials, attend education fairs, and other informational services. Approval depends on the installation commander. If approval is granted, then all other permissions will be authorized equally for any school eligible for Military TA; the same time allotment, space, and frequency.

d. All Institutions with an on-installation MOU or invitation for an on-installation activity, such as an educational fair, are authorized to counsel or provide information on any of their programs.

3. Additional Guidelines

a. In addition to DoD policy outlined in the DoD MOU, the authorization of Mil TA is further governed by Air Force Instruction (AFI) 36-2306, as well as applicable policy and guidance.

b. Installation access of non-DoD and non-installation personnel is at the discretion of the installation commander. Access once provided can be revoked at any time due to military necessity or due to conduct that violates installation rules or policies.

c. No off-base school will be given permanent space or scheduled for regularly recurring time on-base for student counseling.

Appendix C to Part 68—Addendum for Education Services Between [Name of Educational Institution] and the U.S. Army

1. Purpose. This addendum is between (Name of Educational Institution), hereafter referred to as the “Institution,” and the United States Army. The purpose of this agreement is to provide guidelines and procedures for the delivery of educational services to Service members, DoD civilian employees, eligible adult family members, military retirees, and non-DoD personnel not covered in the DoD Voluntary Education Partnership Memorandum of Understanding between the DoD Office of the Under Secretary of Defense for Personnel and Readiness and the Institution. This addendum is not to be construed in any way as giving rise to a contractual obligation of the U.S. Army to provide funds to the Institution that would be contrary to Federal law.

2. Responsibilities.

a. Army Education Services Officer (ESO): In support of this addendum, the Army ESO will maintain a continuing liaison with a designated Institution representative and be responsible for inspections and the acceptance of the Institution's services. The ESO will provide assistance to the Institution representative to provide military and Army culture orientation to the Institution personnel.

b. Institutions. The Institution will:

(1) Appoint and designate an Institution representative to maintain a continuing liaison with the Army ESO.

(2) Adopt the GoArmyEd processes. GoArmyEd is the Army Continuing Education System (ACES) centralized and streamlined management system for the Army's postsecondary voluntary education programs. Existing MOUs or Memorandums of Agreement, Tri-Services contracts, or other contracts that Institutions may have with military installations and ACES remain in place and should be supplemented with DoD Instruction 1322.25.

(3) Agree to all of the terms in the ACES policies and procedures, available at https://www.hrc.army.mil/site/education/GoArmyEd_School_Instructions.html, such as: invoicing, grades, reports, library references, etc. For non-Letter of Instruction (LOI) institutions satisfying paragraph 3.f. of this DoD MOU, any requirements in ACES policies and procedures requiring institutions to be a member of SOC are hereby waived.

(4) Institutions currently participating with GoArmyEd as LOI and non-LOI schools, may continue to do so at the discretion of Headquarters, ACES. Non-LOI schools will be subject to the requirements of paragraphs 2.b.(2) and 2.b.(3) of this DoD MOU only to the extent that their existing non-LOI agreement with the U.S. Army provides.

Appendix D to Part 68—Addendum for Education Services Between [Name of Educational Institution] and the U.S. Marine Corps

1. Purpose. This addendum is between (Name of Educational Institution), hereafter referred to as the “Institution,” and the U.S. Marine Corps. The purpose of this agreement is to provide guidelines and procedures for the delivery of educational services to Service members, DoD civilian employees, eligible adult family members, military retirees, and non-DoD personnel not covered in the DoD Voluntary Education Partnership Memorandum of Understanding between the DoD Office of the Under Secretary of Defense for Personnel and Readiness and the Institution. This addendum is not to be construed in any way as giving rise to a contractual obligation of the U.S. Marine Corps to provide funds to the Institution that would be contrary to Federal law.

2. Responsibilities.

a. Marine Corps Education Services Officer (ESO): In support of this addendum, the Marine Corps ESO will maintain a continuing liaison with a designated Institution representative and be responsible for inspections and the acceptance of the Institution's services. The ESO will provide assistance to the Institution representative to provide military and Marine Corps culture orientation to the Institution personnel.

b. Institution. The Institution will:

(1) Appoint and designate an Institution representative to maintain a continuing liaison with the Marine Corps ESO.

(2) Provide open enrollment during a designated time periods in courses conducted through media (e.g., portable media devices or computer-aided). Those courses will be on an individual enrollment basis.

(3) When operating on a Marine Corps installation, provide all required equipment when the Institution provides instruction via media.

(4) When operating on a Marine Corps installation, provide library services to the Marine Corps base/installation for students in the form of research and reference materials (e.g., books, pamphlets, magazines) of similar quality to the support provided students on the institution's home campus. Services will also include research and reference material in sufficient quantity to meet curriculum and program demands. Materials will be, at a minimum, the required readings of the instructor(s) for a particular course or program, or the ability for the student to request a copy of such material, from the institution's main library, without any inconvenience or charge to the student (e.g., a library computer terminal that may allow students to order material and have it mailed to their residence).

(5) Route publicity generated for an installation community through the base ESO.

(6) Permit employment of off-duty military personnel or Government civilian employees by the institution, provided such employment does not conflict with the policies set forth in DoD Regulation 5500.7-R. However, Government personnel employed in any way in the administration of this addendum will be excluded from such employment because of conflict of interest.

3. Billing Procedures, and Formal Grades.

a. Comply with wide area work flow process for invoicing tuition assistance.

b. Grades will be submitted through the Navy College Management Information System grade entry application.

c. Grade reports will be provided to the Naval Education and Training Professional Development and Technology Center within 30 days of term ending or completion of the course, whichever is earlier.

Appendix E to Part 68—Addendum for Education Services Between [Name of Educational Institution] and the U.S. Navy

1. Purpose. This addendum is between (Name of Educational Institution), hereafter referred to as the “Institution,” and the U.S. Navy. The purpose of this agreement is to provide guidelines and procedures for the delivery of educational services to Service members, DoD civilian employees, eligible adult family members, military retirees, and non-DoD personnel not covered in the DoD Voluntary Education Partnership Memorandum of Understanding (MOU) between the DoD Office of the Under Secretary of Defense for Personnel and Readiness and the Institution. This addendum is not to be construed in any way as giving rise to a contractual obligation of the Department of the Navy to provide funds to the academic Institution that would be contrary to Federal law.

2. Responsibilities.

a. Commanding Officer responsible for execution of the Voluntary Education Program. The commanding officer responsible for execution of the voluntary education program will:

(1) Determine the local voluntary education program needs for the Navy population to be served and recommend to the installation commander the educational programs to be offered on the base;

(2) Administer this agreement and provide program management support;

(3) Manage the Navy College Program Distance Learning Partnership (NCPDLP) agreements.

b. Navy College Office (NCO): In support of this addendum, the NCO will maintain a continuing liaison with the designated Institution representative and be responsible for inspections and the acceptance of the Institution's services. The NCO will provide assistance to the Institution representative to provide military and Navy culture orientation to the Institution personnel.

c. Institution. The Institution will:

(1) If a distance learning partner institution:

(i) Comply with NCPDLP agreements, if an institution participates in NCPDLP.

(ii) Provide a link to the academic institution through the Navy College Program Web site, only if designated as an NCPDLP school.

(iii) Display the academic Institution's advertising materials (i.e., pamphlets, posters, and brochures) at all NCOs, only if designated as an NCPDLP school.

(2) Appoint and designate an Institution representative to maintain a continuing liaison with the NCO staff.

(3) Comply with wide area work flow processes for invoicing of tuition assistance. Grades will be submitted to the Navy College Management Information System grade entry application.

(4) Ensure library resource arrangements are in accordance with the standards of the Institution's accrediting association and the State regulatory agency having jurisdiction over the academic Institution.

(5) Respond to email messages from students within a reasonable period of time—generally within two workdays, unless extenuating circumstances would justify additional time.

(6) Comply with host command procedures before starting instructor-based courses on any Navy installation. The NCO will negotiate a separate agreement with the academic Institution in concert with the host command procedures.

(7) Mail an official transcript indicating degree completion, at no cost to the sailor or the Government to: Center for Personal and Professional Development, Attn: Virtual Education Center, 1905 Regulus Ave., Suite 234, Virginia Beach, VA 23461-2009.

Dated: August 9, 2013.
Aaron Siegel,
Alternate OSD Federal Register Liaison Officer, Department of Defense.

[FR Doc. 2013-19747 Filed 8-13-13; 8:45 am]

BILLING CODE 5001-06-P